SECURITIES AND EXCHANGE COMMISSION

[Release No. 35-27434]

Filings Under the Public Utility Holding Company Act of 1935, as Amended (“Act”)

August 27, 2001.

Notice is hereby given that the following filing(s) has/have been made with the Commission pursuant to provisions of the Act and rules promulgated under the Act. All interested persons are referred to the application(s) and/or declaration(s) for complete statements of the proposed transactions(s) summarized below. The application(s) and/or declaration(s) and any amendment(s) is/are available for public inspection through the Commission's Branch of Public Reference.

Interested persons wishing to comment or request a hearing on the application(s) and/or declaration(s) should submit their views in writing by September 21, 2001, to the Secretary, Securities and Exchange Commission, Washington, DC 20549-0609, and serve a copy on the relevant applicant(s) and/or declaration(s) at the address(es) specified below. Proof of service (by affidavit or, in the case of an attorney at law, by certificate) should be filed with the request. Any request for hearing should identify specifically the issues of facts or law that are disputed. A person who so requests will be notified of any hearing, if ordered, and will receive a copy of any notice or order is issued in the matter. After September 21, 2001, the application(s) and/or declaration(s), as filed or as amended, may be granted and/or permitted to become effective.

Connecticut Light and Power Company (70-9905)

The Connecticut Light and Power Company (“CL&P”), a wholly owned electric utility subsidiary of Northeast Utilities (“NU”), a public utility holding company, and CL&P Receivables Corporation (“CRC”), a wholly-owned special purpose subsidiary of CL&P, both located at 107 Selden Street, Berlin, Connecticut 06037-5457, have filed a declaration under section 12(c) and rules 46 and 54 of the Act.

By order dated September 29, 1997 (HCAR No. 26761) (“1997 Order”), the Commission authorized CL&P to engage in five transactions in connection with its receivables program (“Program”). Under the 1997 Order, authority was granted for (i) CL&P to organize CRC, (ii) CRC to issue shares of common stock, (iii) CL&P to acquire shares of CRC common stock, (iv) CL&P to make, directly and indirectly, initial and general equity contributions to CRC, and (v) CRC to pay dividends to CL&P from time to time out of capital to achieve the optimum balance of capital to achieve economic efficiency. Transactions (i) through (iv) (with respect to initial equity contributions) have been undertaken and by their nature are permanent, while (v) by its nature is an ongoing process as the Program moves forward. The Program was scheduled to expire on July 11, 2001 and was suspended on that date. In order to extend the Program beyond July 11, 2001, CL&P is now seeking authority to continue the actions set forth in (v) above, and any other aspect of the proposed transactions for which approval may be necessary, through July 8, 2004, the proposed date of expiration of the extended Program.

The Programs consists of two agreements. As extended to July 8, 2004, the Program will continue in place with the same provisions set present. The principal features of the Program are as follows: under the first agreement, between CL&P and CRC (“Company Agreement”), CL&P sells or transfers as equity contributions from time to time all eligible categories of its billed and unbilled accounts received (“Receivables”) and related assets (“Related Assets”) to CRC. The purchase price paid by CRC for any Receivables and Related Assets takes into account historical loss statistics on CL&P's receivables pool and the purchaser's (“Purchaser”) cost of funds. Under the second agreement (“CRC Agreement”), CRC sells fractional undivided interests (“Receivable Interests”) in the Receivables to the Purchaser from time to time.

The availability of Receivables and Related Assets varies from time to time in accordance with electric energy use by CL&P's customers. As a result of this and certain other factors, the funds CRC has available to make a purchase at any time may not match the cost of Receivables and Related Assets available. The Program includes certain mechanisms to accommodate this mismatch. When the amount of Receivables and Related Assets originated by CL&P exceeds the amount of cash CRC has available, either CRC will make the purchase and owe the balance of the purchase price to CL&P on a deferred basis (the unpaid portion will accrue interest or the purchase price will involve a discount to reflect the deferral), or CL&P will make a capital contribution to CRC in the form of the Receivables and Related Assets for which CRC lacks purchase price funds at that time. Conversely, if CRC develops a substantial cash balance (due to collections of previously transferred Receivables exceeding the balance of newly created Receivable available for purchase), CRC will likely dividend the excess cash to CL&P. These dividends may represent a return of previous capital contributions of CL&P to CRC. Through these mechanisms, CRC does not itself retain substantial cash balances at any time and substantially all cash realized from the collection of the Receivables (net of the costs of the program and any reductions in the outstanding balance of Receivable Interests) is made available to CL&P.

CL&P and CRC will continue to be obligated to reimburse the Purchaser and its agent (“Agent”) for various costs and expenses associated with the Company Agreement and the CRC Agreement upon extension of the Program. CRC will also continue to be required to pay to the Agent certain fees for services in connection with these agreements.

CL&P is working with the parties to the agreements to extend the Program through July 8, 2004. CRC may, following written notice to the Agent, terminate in whole or reduce in part the unused portion of its purchase limit in accordance with the terms and conditions of the CRC Agreement. The CRC Agreement allows the Purchaser to assign all of its rights and obligations under the CRC Agreement (including its Receivable Interests and the obligation to fund Receivable Interests) to other persons. However, any such assignments will not change the nature of the obligations of CL&P or CRC under the Company Agreement and the CRC Agreement.

As described in the declaration, CL&P intends that the above-described transactions will continue to accelerate the receipt of cash collections from accounts receivable in order to meet its short term cash needs.

For the Commission, by the Division of Investment Management, pursuant to delegated authority.
Margaret H. McFarland,
Deputy Secretary.

[FR Doc. 01-22014 Filed 8-30-01; 8:45 am]

BILLING CODE 8010-01-M